DEPARTMENT OF TRANSPORTATION

Office of the Secretary of Transportation

[DOT Docket No. DOT-OST-2010-0074]

The Future of Aviation Advisory Committee (FAAC) Aviation Safety Subcommittee; Notice of Meeting

AGENCY: U.S. Department of Transportation, Office of the Secretary of Transportation.

ACTION: The Future of Aviation Advisory Committee (FAAC): Aviation Safety Subcommittee; Notice of Meeting.

SUMMARY: The Department of Transportation (DOT), Office of the Secretary of Transportation, announces a meeting of the FAAC Aviation Safety Subcommittee, which will be held October 19, 2010, in Everett, Washington. This notice announces the date, time, and location of the meeting, which will be open to the public. The purpose of the FAAC is to provide advice and recommendations to the Secretary of Transportation to ensure the competitiveness of the U.S. aviation industry and its capability to manage effectively the evolving transportation needs, challenges, and opportunities of the global economy. The subcommittee will discuss issue areas identified for potential recommendations, the process of drafting recommendations, and develop a work plan for future meetings.

DATES: The meeting will be held on October 19, 2010, from 9 a.m. to 12 p.m. Pacific Daylight Time.

ADDRESSES: The meeting will be held at the Boeing Everett Site, 40-88 Building, Seaway Boulevard and 75th Street, SW., Everett, Washington 98203. (See below for registration instructions.)

Public Access: The meeting is open to the public. (See below for registration instructions.)

Public Comments: Persons wishing to offer written comments and suggestions concerning the activities of the advisory committee or subcommittee should file comments in the Public Docket (Docket Number DOT-OST-2010-0074 at http://www.regulations.gov) or alternatively through the FAAC@dot.gov e-mail. If comments and suggestions are intended specifically for the Aviation Safety Subcommittee, the term “Aviation Safety” should be listed in the subject line of the message. To ensure such comments can be considered by the subcommittee before its October 19, 2010, meeting, public comments must be filed by close of business on Thursday, October 14, 2010.

SUPPLEMENTARY INFORMATION:

Background

Under section 10(a)(2) of the Federal Advisory Committee Act (5 U.S.C. App. 2), we are giving notice of an FAAC Aviation Safety Subcommittee meeting taking place on October 19, 2010, from 9 a.m. to 12 p.m. Pacific Daylight Time, at the Boeing Everett Site, 40-88 Building, Seaway Boulevard and 75th Street, SW., Everett, Washington 98203. The subcommittee will—

1. Review the status of issue items and possible solutions.

2. Develop a work plan for the next meeting.

Registration

The conference room can accommodate up to 30 members of the public. Persons desiring to attend must pre-register through e-mail to FAAC@dot.gov. The term “Registration: Safety Subcommittee” must be listed in the subject line of the message, and admission will be limited to the first 30 persons to pre-register and receive a confirmation of their pre-registration. No arrangements are being made for audio or video transmission, or for oral statements or questions from the public at the meeting. Minutes of the meeting will be posted on the FAAC Web site at http://www.dot.gov/FAAC.

Request for Special Accommodation

The DOT is committed to providing equal access to this meeting for all participants. If you need alternative formats or services because of a disability, please send a request to FAAC@dot.gov with the term “Special Accommodations” listed in the subject line of the message by close of business on October 14, 2010.

FOR FURTHER INFORMATION CONTACT: Tony Fazio, Director, Office of Accident Investigation and Prevention, Federal Aviation Administration, 800 Independence Avenue, SW., Washington, DC; telephone (202) 267-9612; Tony.Fazio@FAA.gov.

Issued in Washington, DC, on September 24, 2010.
Pamela Hamilton-Powell,
Designated Federal Official, Future of Aviation Advisory Committee.

[FR Doc. 2010-24367 Filed 9-28-10; 8:45 am]

BILLING CODE P